GENERAL SERVICES ADMINISTRATION

[OMB Control No. 3090-0252]

Proposed Collection Preparation, Submission, and Negotiation of Subcontracting Plans

AGENCY: Office of Acquisition Policy, GSA.

ACTION: Notice for public comments.

SUMMARY: Under the provisions of the Paperwork Reduction Act of 1995 (44 U.S.C. Chapter 35), the General Services Administration, Office of Acquisition Policy will submit to the Office of Management and Budget (OMB) a request to review and approve an extension of a previously approved information collection requirement concerning the Preparation, Submission, and Negotiation of Subcontracting Plans. This information collection will ensure that small and small disadvantaged business concerns are afforded the maximum practicable opportunity to participate as subcontractors in construction, repair, and alteration or lease contracts. Preparation, Submission, and Negotiation of Subcontracting Plans requires all negotiated solicitations having an anticipated award value over $500,000 ($1,000,000 for construction), submission of a subcontracting plan with other than small business concerns when a negotiated acquisition meets all four of the following conditions:

(1) When the contracting officer anticipates receiving individual subcontracting plans (not commercial plans),

(2) When the award is based on trade-offs among cost or price and technical and/or management factors under FAR 15.101-1,

(3) The acquisition is not a commercial item acquisition, and

(4) The acquisition offers more than minimal subcontracting opportunities.

Public comments are particularly invited on: Whether the information collection generated by the GSAR Clause, Preparation, Submission, and Negotiation of Subcontracting Plans is necessary for small business/subcontracting plans; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Comment Due Date: May 14, 2002.

ADDRESSES: Comments regarding this burden estimate or any other aspect of this collection of information, including suggestions for reducing this burden, should be submitted to Stephanie Morris, General Services Administration, Acquisition Policy Division, 1800 F Street, NW., Room 4035, Washington, DC 20405.

FOR FURTHER INFORMATION CONTACT: Rhonda Cundiff, Office of Acquisition Policy (202) 501-0044.

SUPPLEMENTARY INFORMATION:

A. Purpose

The General Services Administration will be requesting that the Office of Management and Budget (OMB) review and approve information collection, 3090-0252, concerning the Preparation, Subcommission, and Negotiation of Subcontracting Plans. This provision requires a contractor (except other than small business concerns) to submit a subcontracting plan when a negotiated acquisition including construction, repair, and alterations and lease contracts (except those solicitations using simplified procedures) meets all four of the following conditions:

When the contracting officer anticipates receiving individual subcontracting plans (not commercial plans), when award is based on trade-offs among cost or price and technical and/or management factors under FAR 15.101-1, the acquisition is not a commercial item acquisition, and the acquisition offers more than minimal subcontracting opportunities.

B. Annual Reporting Burden

Respondents: 1,020.

Annual responses: 1.

Average hours per response: 12.

Burden hours: 12,240.

Obtaining copies of proposals: Requester may obtain a copy of the proposal from the General Services Administration, Regulatory Secretariat (MVP), 1800 F Street, NW., Room 4035, Washington, DC 20405, telephone (202) 501-4744. Please cite OMB Control No. 3090-0252, Preparation, Submission, and Negotiation of Subcontracting Plans.

Dated: March 8, 2002.
Al Matera,
Director, Acquisition Policy Division.

[FR Doc. 02-6197 Filed 3-14-02; 8:45 am]

BILLING CODE 6820-61-M